DEPARTMENT OF TRANSPORTATION

Federal Aviation Administration

14 CFR Part 71

[Docket No. FAA-2006-24064; Airspace Docket No. 06-AWP-3]

RIN 2120-AA66

Revision of Class E Airspace; Vandenberg AFB, CA

AGENCY: Federal Aviation Administration (FAA), DOT.

ACTION: Final rule.

SUMMARY: This action revises Class E airspace at Vandenberg AFB, CA. This airspace change places aircraft in controlled airspace from final descent to runway and protects Category E aircraft while conducting a circling approach to land.

DATES: Effective Date: 0901 UTC, August 3, 2006.

FOR FURTHER INFORMATION CONTACT: Francie Hope, Airspace Specialist, Western Terminal Service Area, Federal Aviation Administration, 15000 Aviation Boulevard, Lawndale, California 90261; telephone (310) 725-6502.

SUPPLEMENTARY INFORMATION:

History

During a review of the Class E5 700 foot airspace at Vandenberg AFB, CA, it was determined that additional controlled airspace was needed for Category E aircraft conducting circling maneuvers in conjunction with published Standard Instrument Procedures. Class E5 airspace areas are primarily designated to provide additional controlled airspace ancillary to a surface area to protect instrument operations for the primary airport, without imposing additional communications burdens on airspace users. This action is necessary at Vandenberg AFB to provide controlled airspace for Category E aircraft conducting circling maneuvers in conjunction with published Standard Instrument Procedures. Generally, Category E aircraft are very large and/or high performance. These aircraft require additional airspace when conducting circling maneuvers.

On March 24, 2006, the FAA published in the Federal Register a notice of proposed rulemaking to revise Class E airspace at Vandenberg AFB, CA (71 FR 14830). Interested parties were invited to participate in this rulemaking effort by submitting written comments on the proposal. No comments were received, therefore, this revision is the same as that proposed in the notice.

Class E5 airspace areas are published in Paragraph 6005 of FAA Order 7400.9N, dated September 1, 2005, and effective September 15, 2005, which is incorporated by reference in 14 CFR 71.1. The Class E5 airspace designation listed in this document will be published subsequently in the Order.

The Rule

The FAA is amending Title 14 Code of Federal Regulations (14 CFR) part 71 by revising Class E airspace at Vandenberg AFB, CA. The FAA is taking this action to provide additional controlled airspace for Category E aircraft conducting circling maneuvers in conjunction with published Standard Instrument Procedures. This airspace change places aircraft in controlled airspace from final descent to runway and protects Category E aircraft while conducting a circling approach to land.

The FAA has determined that this regulation only involves an established body of technical regulations for which frequent and routine amendments are necessary to keep them operationally current. Therefore, this regulation: (1) Is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9N, Airspace Designations and Reporting Points, dated September 1, 2005, and effective September 15, 2005, is amended as follows:

Paragraph 6005 Class E Airspace Areas Extending Upward From 700 Feet or More Above the Surface of the Earth

* * * * *

AWP CA E5 Vandenberg AFB, CA [Revised]

Vandenberg AFB Airport

(Lat. 34°43′47″ N, Long. 120°34′37″ W).

That airspace extending upward from 700 feet above the surface within a 7.8-mile radius of the Vandenberg AFB airport and within 1.8 miles each side of the Vandenberg AFB ILS localizer southeast course, extending from 7.8 miles to 10.3 miles southeast of the Vandenberg AFB airport, excluding the Vandenberg Class D airspace, the Santa Maria Class D airspace, the Lompoc Class E4 surface area airspace, and the Lompoc Class E 700 foot airspace.

* * * * *

Issued in Los Angeles, California, on June 1, 2006.
Leonard A. Mobley,
Manager, Airspace Branch, AWP-520, Western Terminal Operations.

[FR Doc. 06-5159 Filed 6-6-06; 8:45 am]

BILLING CODE 4910-13-M